Title 3—

The President

Proclamation 8002 of April 18, 2006

National Park Week, 2006

By the President of the United States of America

A Proclamation

In America's national parks, the magnificent beauty of our country and important examples of our Nation's cultural heritage are preserved and made available to Americans and visitors from all over the world. Each year, as we observe National Park Week, we underscore our commitment to conserve our natural and historical treasures and encourage more Americans to enjoy, learn from, and protect these important parts of our heritage.

Our Nation has a long legacy of conservation. In 1872, Yellowstone National Park became our country's first national park, and more than four decades later, the National Park Service was created. Today, the national park system includes almost 400 sites, with parks in nearly every state. From Yosemite National Park in California to Acadia National Park in Maine, and from Independence Hall to the Martin Luther King, Jr., National Historic Site, America's national parks are home to some of our Nation's most beautiful landscapes and richest history.

This year's theme, “Connecting our Children to America's National Parks,” reflects the National Park Service's commitment to encouraging young people to enjoy outdoor recreation and better appreciate our Nation's beauty and history. The National Park Service Junior Rangers program develops interest in our national parks by teaching children and their families about the importance of the national park sites. Young people can visit our national parks online by going to the Junior Rangers website at www.nps.gov/WebRangers. As Honorary Chair of the National Park Foundation, First Lady Laura Bush helps raise awareness about preservation of the parks and encourages support for programs like the Junior Rangers. Through initiatives like this, the National Park Service is promoting good stewardship of the environment and appreciation of our Nation's heritage.

With the opportunity to live in America comes a responsibility to ensure that our national parks remain a source of pride, pleasure, and education for all our citizens. During National Park Week and throughout the year, we pay tribute to the employees and volunteers of the National Park Service. For the past 90 years, these dedicated men and women have worked to maintain and enhance our national parks and to ensure that they are preserved and enjoyed for generations to come.

NOW, THEREFORE, I, GEORGE W. BUSH, President of the United States of America, by virtue of the authority vested in me by the Constitution and laws of the United States, do hereby proclaim April 22 through April 30, 2006, as National Park Week. I call upon the people of the United States to join me in celebrating America's national parks and becoming active participants in park conservation.

IN WITNESS WHEREOF, I have hereunto set my hand this eighteenth day of April, in the year of our Lord two thousand six, and of the Independence of the United States of America the two hundred and thirtieth.

B

[FR Doc. 06-3866

Filed 4-20-06; 8:45 am]

Billing code 3195-01-P